ENVIRONMENTAL PROTECTION AGENCY

[FRL-6848-1]

Agency Information Collection Activities: Proposed Collection; Comment Request; ICRs Planned To Be Submitted

AGENCY: Environmental Protection Agency (EPA).

ACTION: Notice.

SUMMARY: In compliance with the Paperwork Reduction Act (44 U.S.C. 3501 et seq.), this document announces that EPA is planning to submit the following six continuing Information Collection Requests (ICR) to the Office of Management and Budget (OMB). Before submitting the ICRs to OMB for review and approval, EPA is soliciting comments on specific aspects of the information collections as described at the beginning of Supplementary Information.

DATES: Comments must be submitted on or before October 16, 2000.

ADDRESSES: U.S. EPA, 1200 Pennsylvania Avenue, mail code 2223A, Washington, DC 20460. A hard copy of an ICR may be obtained without charge by calling the identified information contact individual for each ICR in Section B of the Supplementary Information.

FOR FURTHER INFORMATION CONTACT: For specific information on the individual ICRs see Section B of the Supplementary Information.

SUPPLEMENTARY INFORMATION:

For All ICRs

The EPA is charged under Section 111 of the Clean Air Act, as amended, to establish standards of performance for new stationary sources. The standards must reflect application of the best technological system of continuous emission reductions. Such reductions should take into consideration the cost of achieving emission reduction, or any non-air quality health and environmental impact and energy requirements.

The EPA is charged under section 112 of the Clean Air Act (CAA or Act), as amended, to establish national emission standards for hazardous air pollutants (NESHAP). These standards are applicable to new or existing sources of hazardous air pollutants and shall require the maximum degree of emission reduction.

In addition, Section 114 of the Clean Air Act allows the Administrator to require inspections, monitoring, and entry into facilities to ensure compliance with any requirement of this Act. Records and reports are necessary to enable the EPA to identify facilities that may not be in compliance with the standards. In the absence of such information enforcement personnel would be unable to determine whether the standards are being met on a continuous basis, as required by the Clean Air Act.

An Agency may not conduct or sponsor, and a person is not required to respond to, a collection information request unless it displays a currently valid OMB control number. The OMB control numbers for EPA's regulations are displayed in 40 CFR part 9.

Any information submitted to the Agency for which a claim of confidentiality is made will be safeguarded according to the Agency policies set forth in Title 40, Chapter 1, Part 2, Subpart B—Confidentiality of Business Information (see 40 CFR 2; 41 CFR 36902, September 1, 1976; amended by 43 FR 40000, September 8, 1978; 43 FR 42251, September 20, 1978; 44 FR 1764, March 23, 1979).

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The Agency computed the burden for each of the recordkeeping and reporting requirements applicable to industry for the currently approved ICRs. Where applicable, the Agency identified specific tasks and made assumptions, while being consistent with the concept of the Paperwork Reduction Act.

A. List of ICRs Planned To Be Submitted

In compliance with the Paperwork Reduction Act (44 U.S.C. 3501 et seq.), this notice announces that EPA is planning to submit the following six continuing ICRs to the Office of Management and Budget (OMB):

(1) NSPS Subpart E: New Source Performance Standards (NSPS) for Municipal Incinerators; EPA ICR number 1058.07; OMB number 2060.0040; expiration date April 30, 2001.

(2) NSPS Subpart GG: Stationary Gas Turbines; EPA ICR Number 1071.06; OMB number 2060.0028; expiration date January 31, 2001.

(3) NESHAP-MACT Subpart R: Gasoline Distribution; EPA ICR number 1659.03, OMB number 2060.0325; expiration date February 28, 2001.

(4) NESHAP Subpart T: Halogenated Solvent Cleaning; EPA ICR number 1652.03.; OMB number 2060.0273; expiration date May 31, 2001.

(5) NESHAP Subpart JJ: Wood Furniture Manufacturing; EPA ICR number 1716.02; OMB number 2060.0324; expiration date February 28, 2001.

(6) RCRA Subpart CC: Standards of Performance for Air Emission Standards for Tanks, Surface Impoundments and Containers, EPA ICR Number 1593.04; OMB number 2060.0318; expiration date February 28, 2001.

B. Contact Individuals for ICRs

(1) NSPS Subpart E: New Source Performance Standards (NSPS) for Incinerators; Joyce Chandler of the Commercial Services & Municipal Branch, at (202) 564-7073/(202) 564-0009 or via E-mail to Chandler.Joyce@epamail.epa.gov.; OMB Control No. 2060-0040; EPA ICR No.1508.07; expiration date April 30, 2001.

(2) NSPS Subpart GG: Stationary Gas Turbines; Chris Oh of the Energy and Transportation Branch at (202) 564-7004 or via E-mail to Oh.Christopher@epamail.epa.gov; EPA ICR No. 1071; OMB No. 2060.0028; expiration date January 31, 2001.

(3) NESHAP-MACT Subpart R: Gasoline Distribution Facilities (Stage 1); Julie Tankersley of the Energy and Transportation Branch at (202) 564-7002/(202) 564-0050 or via E-mail to Tankersley.Julie@epamail.epa.gov., EPA ICR No. 1659.03; OMB No. 2060.0325; expiration date February 28, 2001.

(4) NESHAP Subpart T: Halogenated Solvent Cleaning; Acquanetta Delaney of the Commercial Services & Municipal Branch, at (202) 564-7061/(202) 564-0009 or via E-mail to Delaney.Acquanetta@epamail.epa.gov; EPA ICR No.1652.03; OMB No. 2060.0273; expiration date May 31, 2001.

(5) NESHAP Subpart JJ: Wood Furniture Manufacturing; Robert Marshall of the Manufacturing Branch at (202) 564-7021/(202) 564-0050 or via E-mail to Marshall.Robert@epa.gov, EPA ICR No. 1716.02; OMB No. 2060.0324; expiration date February 28, 2001.

(6) RCRA Subpart CC: Tanks; Everett Bishop of the Energy and Transportation Branch at (202) 564-7032/(202) 564-0050 or via E-mail to Bishop.Everett@epa.gov, Subpart E; EPA ICR No. 1593.04; OMB No. 2060.0318; expiration date February 28, 2001.

C. Individual ICRs

(1) NSPS Subpart E: New Source Performance Standards (NSPS) for Incinerators Subpart E; OMB number 2060.0040; EPA ICR No. 1058.07; and expiration date April 30, 2001.

Affected Entities: Entities potentially affected by this action are those which are subject to the New Source Performance Standards (NSPS) for Incinerators Subpart E. The NSPS Subpart E standards of 40 CFR 60.50 apply to each incinerator with a charging rate of more than 45 metric tons per day (50 tons per day), which commenced construction, reconstruction, or modification after the August 17, 1991 and before proposal date of NSPS Subpart E. For Subpart E an incinerator is any furnace burning solid waste (refuse, more than 50 percent of which is municipal type waste) to reduce the volume of waste by removing combustible matter. The Subpart Ea standards of CFR Part 60 apply to municipal incinerators with a capacity greater than 225 megagrams per day (250 ton/day) of municipal solid waste or refuse-derived fuel, for which construction, modification, or reconstruction commenced between March 20, 1989 and September 20, 1994. Large municipal waste combustors that are constructed, modified, or reconstructed after September 20, 1994 are subject to NSPS Subpart Eb.

Abstract: This ICR contains recordkeeping and reporting requirements that are mandatory for compliance with 40 CFR Part 60, Subpart E, New Source Performance Standards for Incinerators.

Owners or operators of units subject to Subpart E must provide EPA, or the delegated State regulatory authority, with the following one-time only reports: notification of the date of construction or reconstruction; notification of the anticipated and actual dates of startup; notification of any physical or operation change to an existing facility which may increase the regulated pollutant emission rate; notification of the date of the initial performance test; and the results of the initial performance test.

The recordkeeping requirements for owners and operators of incinerators consist of maintaining records of the following: the occurrence and duration of any startups and malfunctions as they occur in the operation of an affected facility; measurements of particulate matter (PM) emissions; the initial performance test results including information necessary to determine the conditions of the performance test; performance test measurements and results including conversion factors and measurements of PM emissions; and daily charging rate and hours of operation.

Any owner/operator subject to this part shall maintain a file of these measurements, and retain the file for at least two years following the date of such measurements, maintenance reports, and records.

Burden Statement: In the currently approved ICR, the recordkeeping burden is estimated to average 89 hours per respondent for a total annual burden of 8,544 hours. The reporting burden for Subpart E is for the one-time only reports. Therefore, the annual reporting burden for that collection of information is zero since it is estimated that there will be no new incinerators subject to the standard. The estimated number of respondents is 96 and the estimated number of responses is 33,696. There is no annualized cost burden associated with this ICR.

(2) NSPS Subpart GG: Stationary Gas Turbines; EPA ICR No. 1071.06; OMB number 2060.0028; expiration date January 31, 2001.

Affected Entities: Entities affected by this action are those stationary gas turbines for which construction, modification, or reconstruction is commenced after October 3, 1977, and that has a heat input at peak load equal to or greater than 10.7 gigajoules per hour, based on the lower heating value of the fuel fired.

Abstract: This ICR contains recordkeeping and reporting requirements that are mandatory for compliance with 40 CFR Part 60, Subpart GG. NSPS, Subpart GG was proposed on October 3, 1977 and promulgated on September 10, 1979. These standards apply to all stationary gas turbines with a heat input at peak load equal to or greater than 10.7 gigajoules per hour (based on the lower heating valued of the fuel fired), and commencing construction, modification, or reconstruction after the date of proposal. The pollutants regulated under this subpart include sulfur dioxide (SO2) and nitrogen oxides (NOX).

The reporting requirements for this type of facility include the initial notifications required under 40 CFR 60.7 which include: notification of the date of construction or reconstruction; notification of the anticipated and actual dates of startup; notification of any physical or operational change to an existing facility which may increase the regulated pollutant emission rate; notification of demonstration of the continuous monitoring system (CMS); notification of the date of the initial performance test; and the results of the initial performance test. The standard also requires reporting of the results of the initial performance test to determine compliance with the applicable SO2 and/or NOX standards. For units using a continuous emission monitoring system (CEMS) to determine compliance with the NOX and SO2 standards, the regulation requires submittal of the results of the CEMS demonstration. After the initial report, the standards for NOX and SO2 requires each affected facility to submit semi-annual excess/compliance reports. These excess emission reports and monitoring system performance reports shall include the magnitude of excess emissions, the date and time of the exceedence or deviance, the nature and cause of the malfunction (if known) and corrective measures taken, and identification of the time period during which the CMS was inoperative (this does not include zero and span checks nor typical repairs or adjustments).

The recordkeeping requirements for all stationary gas turbine consist of maintaining records of the following: the occurrence and duration of any startup, shutdown, or malfunction as described; the initial performance test results including information necessary to determine the conditions of the performance test; performance test measurements and results including the applicable sulfur dioxide and/or PM results; the sulfur and nitrogen content of the fuel; the fuel to water ratio; the rate of fuel consumption; and the ambient conditions. The fuel sulfur content and fuel to water ratio measurements are used to monitor SO2 and NOX, respectively. Any owner or operator subject to the provisions of this part shall maintain a file of these measurements, and retain the file for at least two years following the date of such measurements.

Burden Statement: In the currently approved ICR, the estimated total annual reporting and recordkeeping hour burden is 76,681 person-hours and the total annual responses is 1,500. This estimate is based on the assumption that are approximately 625 existing affected facilities and 50 new facilities will become subject to the standard each year for the three years covered by this ICR. There are no capital and operation and maintenance cost associated with this ICR.

(3) NESHAP-MACT Subpart R: Gasoline Distribution Facilities (Stage 1); EPA ICR number 1659.03, and OMB number 2060-0325; expiration date February 28, 2001.

Affected Entities: Entities affected by this action are new and existing bulk gasoline terminals and pipeline breakout stations that are major sources of hazardous air pollutants (HAP) emissions or are located at sites that are major sources of HAP emissions.

Abstract: This ICR contains recordkeeping and reporting requirements that are mandatory for compliance with 40 CFR Part 63, Subpart R. Effective enforcement of this rule is necessary due to the hazardous nature of benzene (a known human carcinogen)and the toxic nature of the other 10 HAP's emitted from gasoline distribution facilities.

In order to ensure compliance with the standards, adequate reporting and record keeping is necessary. This information enables the Agency to: (1) Identify the sources subject to the standard; (2) ensure that leakage emissions from cargo tanks and process piping equipment components (both liquid and vapor) during loading are being minimized; and (3) ensure that emission control devices are being properly operated and maintained; and (4) ensure that emissions from storage vessels are minimized and rim seal and fitting defects are repaired on a timely basis.

Specifically, the rule's reporting requirements that apply to both bulk gasoline terminals and pipeline breakout stations include initial notification; notification of compliance status; notification of construction/reconstruction; notification of anticipated startup; notification of actual start up; semiannual reports; and reporting of area source compliance. In addition, bulk gasoline terminals are required to provide notification of performance tests and on CMS evaluation.

The rule's recordkeeping requirements that apply to both bulk gasoline terminals and pipeline break out stations maintaining records of: equipment visual inspections; equipment leak data; storage tank seal inspections; startups/shutdowns/malfunctions; and area source status. In addition, bulk gasoline terminals are required to maintain records of filing cargo tank inspection records; updating cargo tank inspections; and of the cross-checking cargo tank inspection file.

Industry Burden Statement: In the currently approved ICR, the average annual burden to industry to meet these reporting and record keeping requirements is estimated at 32,575 person-hours (31,797 person-hours for bulk gasoline terminals plus 778 person-hours for pipeline breakout stations). This estimate is based on approximately 263 respondents (243 bulk gasoline terminals plus 20 pipeline breakout stations). Since there are no new sources anticipated, the only reporting burden for this industry is the semi-annual reporting of excess emissions which is estimated at 10 hours per report for bulk gasoline terminals, and 8 hours per report for pipeline break out stations. There is no capital/startup costs, since there are no new sources anticipated. The estimated total annual operation and maintenance cost to the industry is $850,500.

(4) NESHAP Subpart T: Halogenated Solvent Cleaning; EPA ICR No. 1652.03; OMB number 2060.0273; expiration date May 31, 2001.

Affected entities: Entities potentially affected by this action are those which operate individual batch vapor, in-line vapor, in-line cold, and batch cold solvent cleaning machines that use any solvent containing methylene chloride, perchloroethylene, 1,1,1-trichloroethane, carbon tetrachloride, or chloroform or any combination of these halogenated HAP solvents, in a total concentration greater than 5 percent by weight, as a cleaning and/or drying agent.

Abstract: This ICR contains recordkeeping and reporting requirements that are mandatory for compliance with 40 CFR 63, Subpart T. Effective enforcement of this rule is necessary due to the hazardous nature of HAP emissions from halogenated solvent cleaners which may cause or contribute to air pollution that may reasonably be anticipated to endanger public health or welfare. Therefore, NESHAP standards were promulgated for this source category, as required under section 112 of the Clean Air Act.

HAP emissions from halogenated solvent cleaners are the result of inadequate equipment design and work practices. These standards rely on the proper design and operation of halogenated solvent cleaners such as working-mode covers, freeboard ratio of 1.0, and reduced room draft to reduce solvent emissions from halogenated solvent cleaners.

Certain records and reports are necessary to enable EPA to identify sources subject to the standards and to ensure that the standards are being achieved. Owners/operators of halogenated solvent cleaners must provide EPA with an initial notification of existing or new solvent cleaning machines; initial statement of compliance; an annual control device monitoring report (owners/operators of batch vapor and in-line cleaning machines); an annual solvent emission report (owners/operators of batch vapor and in-line cleaning machines complying with the alternative standard); and exceedence of monitoring parameters or emissions. The records that the facilities maintain indicate to EPA whether they are operating and maintaining the halogenated solvent cleaners properly to control emissions.

Burden: For the currently approved ICR, the annual reporting and recordkeeping burden is estimated to average 43 hours per reporting response and 95 hours for recordkeeping for a total 45,207.20 hours. The estimated number of responses is 11,463. The estimated number of respondents is 3,821 which includes vapor in-line halogenated solvent cleaning machines and 752 batch cold cleaning machines. The estimated total capital cost for facilities with batch vapor and/or in-line solvent cleaning machine to achieve compliance is $17,000 (assume 2.6 cleaning machines per facility). The estimated annual operation and maintenance cost for batch vapor and/or in-line solvent cleaning machine is $858. Existing sources were not required to comply with the standard until December 1997.

(5) NESHAP Subpart JJ: Wood Furniture Manufacturing Operations; EPA ICR No. 1716.02; OMB number 2060.0324; expiration date February 28, 2001.

Affected Entities: Entities potentially affected by this action are wood furniture manufacturing operations.

Abstract: This ICR contains recordkeeping and reporting requirements that are mandatory for compliance with 40 CFR Part 63, Subpart JJ. Information is supplied to the Agency under the applicable rule by owners and operators of new and existing wood furniture manufacturing operations that are major sources of hazardous air pollutants (HAPs).

The respondents are required by 40 CFR Part 63, Subpart JJ to submit periodic reports and perform various recordkeeping activities to enable the Administrator to:

(i) Identify new, modified, reconstructed and existing sources subject to the standard, and

(ii) Ensure that the standards, which are based on maximum achievable control technology, are being met.

The reporting requirements of the standard include the following: an application requesting approval for construction/reconstruction; notification of start-up, construction and reconstruction; notification of physical/operational changes; site-specific performance and CMS performance evaluation test plans; notification and reporting of performance and CMS tests/results; a semi-annual compliance report; work practice standards implementation plan reports; notification to the Agency of rule applicability; and notification and reporting of compliance status.

The recordkeeping requirements of the rule include maintaining records of: startups, shutdowns, and malfunctions; the work practice implementation plan; continuous monitoring system (CMS) data; the types and quantities of finishing, cleaning materials and adhesives used; monthly weighted average emission calculations; documentation of area source status, if claimed; and performance and CMS tests. A five-year maintenance and retention of records is required by this standard.

Burden: In the currently approved ICR, it is estimated that the total annual burden for recordkeeping and reporting requirements is 91,430 hours and the estimated cost to respondents is $34,830,000. This estimate is based on an estimate number of respondents of 750. The total number of annual responses is 54,721. The average annual burden per response is therefore 1.67 hours. The frequency of response, for most reporting requirements, is semi-annual. The annualized capital and start-up costs for the respondents over the expected useful life of the control equipment is $34,830,000.

(6) RCRA Subpart CC: Standards of Performance for Air Emission Standards for Tanks, Surface Impoundments and Containers, EPA ICR Number 1593.04; OMB number 2060.0318; expiration date February 28, 2001.

Affected entities: Entities potentially affected by this action are those that treat, store or dispose of hazardous waste (large quantity generators and treatment, storage and disposal facilities) subject to the Resource Conservation and Recovery Act (RCRA).

Abstract: This ICR contains recordkeeping and reporting requirements that are mandatory for compliance with 40 CFR Part 264, Subpart CC and 40 CFR Part 265, Subpart CC. RCRA Subpart CC requires controls for minimizing release of volatile organic air emissions from tanks, surface impoundments and containers holding hazardous waste. Records and reports are necessary in order for the EPA to determine that the standards are implemented and maintained to protect human health and the environment.

Organic air emissions from hazardous waste TSDFs can contain toxic chemical compounds. Cancer and other adverse noncancerous human health effects can result from exposure to these emissions. Organic emissions from TSDFs react photochemically with other compounds in the atmosphere to form ground level ozone. Excessive ambient ozone concentrations are a major air quality problem in many cities throughout the United States. Nationwide organic emissions from TSDFs are estimated to be approximately one million megagrams per year. These organic emissions are estimated to result in 48 excess incidences of cancer per year nationwide and a 3 × 10⁻² maximum individual risk (MAR). The experience of the EPA in implementing and enforcing New Source Performance Standards (NSPS) and National Emission Standards for Hazardous Air Pollutants (NESHAP) promulgated under authority of the Clean Air Act has demonstrated that certain information must be collected to ensure compliance with air emission standards. Information collection is needed by the EPA to determine: (a) whether a hazardous waste contains sufficiently low concentrations of volatile organics to allow the waste to be managed in a tank, surface impoundment, or container without the use of emission controls, and (b) for units requiring emission controls, whether the controls are being properly operated and maintained. The collected information will be used by the EPA enforcement personnel to ensure that the requirements of the recommended rules are being properly applied and that emission control devices are being properly operated and maintained on a continuous basis.

In addition, records and reports are necessary to enable the EPA to identify TSDF owners or operators that may not be operating in compliance with the standards. The reported information is used by the EPA to target TSDFs for inspection and identify what records or waste management units should be inspected at the TSDF. The information that TSDF owners or operators are required to maintain is recorded in sufficient detail to enable owners or operators to demonstrate their means of complying with the applicable standards. The data collected by the affected facility is retained at the facility for a minimum of three years.

Burden Statement: In the currently approved ICR, the average annual reporting burden is 5 hours and the average annual recordkeeping burden is 76 hours. This estimate includes making waste determinations, semiannual inspection of roofs and monitoring emissions, and recordkeeping of such results. There are 6,228 respondents subject to these requirements. The estimate on the number of respondents is based on the 1995 Biennial Report, which indicated that 70% of the 1,787 treatment, storage, and disposal facilities (TSDFs) and 25% of the 19,908 large quantity generators (LQGS) are subject to this regulation. There is no capital costs associated with the installation of new roofs. There are operation and maintenance costs for closed vent systems totaling $1,939,000. Based upon the 1997 Biennial Report figures, we expect that the number of facilities subject to this regulation will increase 5% for the next ICR.

Dated: July 27, 2000.
Bruce R. Weddle,
Acting Director, Office of Compliance.

[FR Doc. 00-20122 Filed 8-16-00; 8:45 am]

BILLING CODE 6560-50-P